DEPARTMENT OF HEALTH AND HUMAN SERVICES

Food and Drug Administration

Pediatric Oncology Subcommittee of the Oncologic Drugs Advisory Committee; Cancellation

AGENCY: Food and Drug Administration, HHS.

ACTION: Notice.

SUMMARY: The Food and Drug Administration (FDA) is canceling the meeting of the Pediatric Oncology Subcommittee of the Oncologic Drugs Advisory Committee scheduled for March 12, 2002. The meeting was announced in the Federal Register of February 7, 2002 (67 FR 5831).

FOR FURTHER INFORMATION CONTACT: Thomas H. Perez, Center for Drug Evaluation and Research (HFD-21), Food and Drug Administration, 5600 Fishers Lane, Rockville, MD 20857, 301-827-6758, or FDA Advisory Committee Information Line, 1-800-741-8138 (301-443-0572 in the Washington, DC area), code 12542.

Dated: February 26, 2002.
Linda A. Suydam,
Senior Associate Commissioner for Communications and Constituent Relations.

[FR Doc. 02-5043 Filed 2-27-02; 11:19 am]

BILLING CODE 4160-01-P